FEDERAL COMMUNICATIONS COMMISSION

[FRS 16687]

Open Commission Meeting by Teleconference, Thursday, April 23, 2020

April 17, 2020.

The Federal Communications Commission will hold an Open Meeting on Thursday, April 23, 2020, which is scheduled to commence at 10:30 a.m. Due to the current COVID-19 pandemic and related agency telework and headquarters access policies, this meeting will be in a wholly electronic format and will be open to the public on the internet via live feed from the FCC's web page at www.fcc.gov/live and on the FCC's YouTube channel. Because of these special circumstances, the first three items on the agenda will be considered by the Commission during the teleconference meeting while the other items listed below are expected to be voted on circulation prior to the meeting.

Item No. | Bureau | Subject
1 | ENGINEERING & TECHNOLOGY | TITLE: Unlicensed Use of the 6 GHz Band (ET Docket No. 18-295); Expanding Flexible Use in Mid-Band Spectrum Between 3.7 and 24 GHz (GN Docket No. 17-183).
|  | SUMMARY: The Commission will consider a Report and Order and Further Notice of Proposed Rulemaking that would promote innovation and the use of mid-band spectrum for broadband by allowing unlicensed operations in the 5.925-7.125 GHz band while protecting existing licensed operations.
2 | WIRELINE COMPETITION | TITLE: Establishing a 5G Fund for Rural America (GN Docket No. 20-32).
|  | SUMMARY: The Commission will consider a Notice of Proposed Rulemaking and Order that would propose to establish the 5G Fund to award up to $9 billion in support in two phases for the deployment of 5G mobile broadband services in rural areas.
3 | INTERNATIONAL | TITLE: Mitigation of Orbital Debris in the New Space Age (IB Docket No. 18-313).
|  | SUMMARY: The Commission will consider a Report and Order and Further Notice of Proposed Rulemaking that would comprehensively update the Commission's orbital debris rules for all Commission-authorized satellites.
4 | INTERNATIONAL | TITLE: ViaSat, Inc., Petition for Declaratory Ruling Granting Access for a Non-U.S.-Licensed Non-Geostationary Orbit Satellite Network (IBFS File No. SAT-PDR-20161115-00120 and SAT-APL-20180927-00076).
|  | SUMMARY: The Commission will consider an Order and Declaratory Ruling that would grant ViaSat's request for U.S. market access to offer broadband services using a proposed constellation of non-geostationary orbit satellites.
5 | MEDIA | TITLE: Amendments of Parts 73 and 74 to Improve the Low Power FM Radio Service Technical Rules (MB Docket No. 19-193); Modernization of Media Regulation Initiative (MB Docket No. 17-105).
|  | SUMMARY: The Commission will consider a Report and Order that would modernize the LPFM technical rules to provide more regulatory flexibility for licensees.
6 | MEDIA | TITLE: Video Description: Implementation of the Twenty-First Century Communications and Video Accessibility Act of 2010 (MB Docket No. 11-43).
|  | SUMMARY: The Commission will consider a Notice of Proposed Rulemaking that would propose to expand video description requirements to 40 additional local television markets over the next four years to increase the accessibility of programming to blind and visually impaired Americans.

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

Marlene Dortch,
Secretary, Office of the Secretary.

[FR Doc. 2020-08724 Filed 4-23-20; 8:45 am]

BILLING CODE 6712-01-P